DEPARTMENT OF THE TREASURY

Bureau of Alcohol, Tobacco and Firearms

27 CFR Part 9

[T.D. ATF-473; Re: Notice No. 916]

RIN 1512-AAO7

Rockpile Viticultural Area (2000R-436P)

AGENCY: Bureau of Alcohol, Tobacco and Firearms (ATF), Treasury.

ACTION: Treasury decision, final rule.

SUMMARY: This Treasury decision establishes the Rockpile viticultural area in northwestern Sonoma County, CA. The Bureau of Alcohol, Tobacco and Firearms believes the establishment of viticultural areas and the subsequent use of viticultural area names as appellations of origin in wine labeling and advertising help consumers identify the wines they may purchase. This also allows wineries to better designate the specific grape-growing area in which the grapes used in their wine were grown.

EFFECTIVE DATE: Effective April 29, 2002.

FOR FURTHER INFORMATION CONTACT: Nancy Sutton, Specialist, Regulations Division (San Francisco, CA), Bureau of Alcohol, Tobacco and Firearms, 221 Main Street, 11th Floor, San Francisco, CA 94105, telephone (415) 947-5192.

SUPPLEMENTARY INFORMATION:

Background on Viticultural Areas

What Is ATF's Authority To Establish a Viticultural Area?

The Federal Alcohol Administration Act (FAA Act) at 27 U.S.C. 205(e) requires that alcohol beverage labels provide the consumer with adequate information regarding a product's identity and prohibits the use of deceptive information on such labels. The FAA Act also authorizes the Bureau of Alcohol, Tobacco and Firearms (ATF) to issue regulations to carry out the Act's provisions. Regulations in 27 CFR part 4, Labeling and Advertising of Wine, allow the establishment of definitive viticultural areas. The regulations allow the name of an approved viticultural area to be used as an appellation of origin on wine labels and in wine advertisements. A list of approved viticultural areas is contained in 27 CFR part 9, American Viticultural Areas.

What Is the Definition of an American Viticultural Area?

An American viticultural area is a delimited grape-growing region distinguishable by geographic features. Viticultural features such as soil, climate, elevation, topography, etc., distinguish it from surrounding areas.

What Is Required To Establish a Viticultural Area?

Any interested person may petition ATF to establish a grape-growing region as a viticultural area. The petition should include:

• Evidence that the name of the proposed viticultural area is locally and/or nationally known as referring to the area specified in the petition;

• Historical or current evidence that the boundaries of the viticultural area are as specified in the petition;

• Evidence relating to the geographical characteristics (climate, soil, elevation, physical features, etc.) which distinguish the viticultural features of the proposed area from surrounding areas;

• A description of the specific boundaries of the viticultural area, based on features which can be found on United States Geological Survey (U.S.G.S.) maps of the largest applicable scale; and

• A copy (or copies) of the appropriate U.S.G.S. map(s) with the boundaries prominently marked.

Rulemaking Proceeding

Rockpile Petition

ATF received a petition from Jack Florence, chairman of the Rockpile Appellation Committee, proposing to establish the “Rockpile” viticultural area in northwestern Sonoma County, California. This viticultural area is located entirely within Sonoma County and the established North Coast viticultural area as described in 27 CFR 9.30. The Rockpile viticultural area encompasses 15,400 acres at or above the 800-foot contour line and includes eleven vineyards with approximately 160 acres of planted wine grapes. The area's shape is an irregular east-to-west rectangle with Rockpile Road running through its length. The eastern portion of the area abuts the western edge of the Lake Sonoma Recreational Area and the Warm Springs Dam area. Continuing in a west-northwesterly direction, Rockpile Peak and Rockpile Ranch #3 anchor the viticultural area's west side.

Approximately 2,500 acres of Rockpile's eastern end overlaps the northwest corner of the established Dry Creek Valley viticultural area (27 CFR 9.64). This overlapping area, comprising 3% of the Dry Creek Valley viticultural area, 16% of the Rockpile viticultural area, and found on the U.S.G.S. Warm Springs Dam Quadrangle map, is flanked by Dry Creek to the north and Warm Springs Creek to the south.

Notice of Proposed Rulemaking

A Notice of Proposed Rulemaking, Notice No. 916, requesting comments by July 2, 2001, from all interested persons concerning the establishment of this viticultural area, was published in the Federal Register on May 1, 2001 (66 FR 21709). ATF received requests from three commenters.

Comments from Peter Beall of Tombs Creek Vineyards and Art Viramontes of Sonoma Royale Vineyard requested that several vineyards south of the proposed viticultural area be included within the Rockpile boundaries. After the close of the comment period, Mr. Beall determined that he had misread the written description of Rockpile's south boundary on the Tombs Creek U.S.G.S. map. He realized that including the Tombs Creek Vineyards and Sonoma Royale Vineyard would necessitate an extensive realignment of the proposed south boundary line, pushing it beyond what is commonly recognized as the Rockpile area. In a July 10, 2001, letter, Mr. Beall retracted his and Mr. Viramontes' comment letters, withdrew their requests for the boundary realignment, and offered support for the Rockpile petition and its original boundaries.

A comment from Gary Branham requested that his vineyard, Branham's Rockpile, located northwest of the proposed viticultural area, be included within the Rockpile boundaries. As shown on the U.S.G.S. Big Foot Mountain map, the 1,400 acre area in question is above the 800-foot contour line on Rockpile Road in Sonoma County and is considered a part of the original Rockpile Ranch. Its climate, soil and geography are similar to the proposed viticultural area. The Rockpile Appellation Committee concurred with this 1,400-acre northwest expansion of their originally proposed boundaries. ATF agrees that the proposed Rockpile viticultural area's expansion is consistent with the original petition and meets regulatory criteria for an American viticultural area. This final rule has been modified accordingly.

Evidence That the Name of the Area Is Locally or Nationally Known

The Rockpile name in Sonoma County dates to 1858 and the start of cattle-raising operations at the “Rock Pile Ranch. This name was used in a newspaper article (Sonoma Democrat, Santa Rosa, California) on October 28, 1882. According to the petitioner, and as researched by historian Cathy Parks, an investment partnership purchased about 21,000 acres of property in this area in 1911, naming it “La Roca Monte Rancho,” Spanish for “the Rocky Peak Ranch.” The property soon became known by its English name of Rockpile Ranch.

The Rockpile name is noted on the current U.S.G.S. Warm Springs Dam, Cloverdale, and Big Foot Mountain Quadrangle maps, all parts of the petition. The most recent AAA Mendocino and Sonoma Coast Region map shows Rockpile Road within the proposed viticultural area.

Historical or Current Evidence That the Boundaries of the Viticultural Area Are as Specified in the Petition

The viticultural area's boundaries are based on those of the historical Rockpile Ranch and on the area's higher elevation. The Rockpile Ranch, as noted above, stems from a 1911 investment partnership that purchased land in the petitioned area. Acquisitions included the 19th century Rock Pile Ranch, Rockpile Peak, and several surrounding areas. To manage this vast sheep-raising and hunting property, the area was eventually divided into Rockpile #1, Rockpile #2, and Rockpile #3 ranches. During the Great Depression some of the property was sold, but 18,000 acres of the Rockpile Ranch #3 were preserved as a working sheep ranch. By the 1930's the area became locally known as Rockpile, and the winding road to the ranch headquarters was named Rockpile Road. U.S.G.S. and AAA maps identify the area and road as Rockpile.

Rockpile's predominant geographic feature is the 800 foot and above elevation of the entire petitioned area. This elevation makes it higher than other grape-growing areas in the surrounding region.

Evidence Relating to the Geographical Features (Climate, Soil, Elevation, Physical Features, Etc.) Which Distinguish Viticultural Features of the Proposed Area From Surrounding Areas

The petition noted several geographic factors that distinguish the Rockpile viticultural area from surrounding grape-growing regions. The elevation of the Rockpile area, as shown on the U.S.G.S. maps, ranges from 800 feet to approximately 1,900 feet. According to the petition, the 800-foot elevation line delineates the area's eastern and northern boundaries, while the southern and western boundary lines average close to 1,800 feet in elevation. The elevation of the area's established vineyards ranges from 800 feet to 1,800 feet, with approximately 95% of the planted area above the 1,000-foot elevation. This higher elevation provides different climatic influences than found in nearby valleys.

Spring daytime temperatures in the Rockpile area run five to ten degrees cooler than the Healdsburg area, approximately ten miles southeast, according to the petition. In the absence of a marine inversion layer, or fog, the temperature decreases about six degrees Fahrenheit for each additional 1,000 feet of elevation. The cool, prevailing northwesterly spring breezes, which are not as prevalent at the lower elevations of the protected valley floors, increase the cooling effect. According to the petition, the viticultural effect of this cooling creates a delayed bud break and slower growth, resulting in delayed bloom and fruit set.

Summer weather in the Rockpile area, according to the petition, is slightly warmer than the nearby valleys due to less fog and more clear weather, resulting in increased sunshine and warmer temperatures. On days when the marine inversion is shallower than 1,000 feet, the Rockpile area is above the fog.

Fall night temperatures, as stated in the petition, are warmer than in the surrounding areas, with less fog at 800 feet and above than at lower elevations. The crucial grape ripening period of September and early October is generally warmer and drier in the Rockpile locality than in surrounding viticultural areas.

The Rockpile viticultural area's soils, according to the petition, differ from neighboring valley viticultural areas in the relative absence of silt and sand, the higher oxidized iron properties (red color), and the greater clay content of the subsoil. The topsoil, generally loam to clay loam with a red to brown color, is twelve to twenty-four inches in depth in the better viticultural locations. There are areas of small rocks and gravel mixed in the topsoil, some with outcroppings of larger rock. The topsoil depth and amounts of clay, rock, and organic matter vary within the area. The topsoil is acidic to very acidic, and the subsoil is more clay-like in texture. However, areas of weathered shale and sandstone, in addition to the topography, contribute to well-drained vineyard conditions.

Regulatory Analyses and Notices

Does the Paperwork Reduction Act Apply to This Final Rule?

The provisions of the Paperwork Reduction Act of 1995, 44 U.S.C. chapter 35, and its implementing regulations, 5 CFR part 1320, do not apply to this rule because no requirement to collect information is imposed.

How Does the Regulatory Flexibility Act Apply to This Final Rule?

This regulation will not have a significant economic impact on a substantial number of small entities or otherwise cause a significant increase in reporting, recordkeeping, or other compliance burdens on a substantial number of small entities. No new requirements are imposed. ATF approval of a viticultural area is not an endorsement of the wine produced in the area. The approval of this viticultural area petition merely allows the wineries in the area to more accurately describe the origin of their wines to consumers and helps consumers identify the wines they purchase. Thus, any benefit derived from the use and reputation of a viticultural area name is the result of a proprietor's own efforts and consumer acceptance of wines from that area. Accordingly, a regulatory flexibility analysis is not required.

Is This a Significant Regulatory Action as Defined by Executive Order 12866?

It has been determined that this regulation is not a significant regulatory action as defined by Executive Order 12866. Therefore, a regulatory assessment is not required.

Drafting Information

The principal author of this document is Nancy Sutton, Regulations Division, Bureau of Alcohol, Tobacco and Firearms.

List of Subjects in 27 CFR Part 9

Wine.

Authority and Issuance

Title 27, Code of Federal Regulations, part 9, American Viticultural Areas, is amended as follows:

PART 9—AMERICAN VITICULTURAL AREAS

Paragraph 1. The authority citation for part 9 continues to read as follows:

Authority: 27 U.S.C. 205.

Subpart C—Approved American Viticultural Areas

Par. 2. Subpart C is amended by adding § 9.173 to read as follows:

§ 9.173 Rockpile

(a) Name. The name of the viticultural area described in this section is “Rockpile”.

(b) Approved Maps. The appropriate maps for determining the boundary of the Rockpile viticultural area are four 1:24,000 Scale U.S.G.S. topographic maps. They are titled:

(1) Warm Springs Dam Quadrangle, CA—Sonoma Co. 1978;

(2) Cloverdale Quadrangle, CA 1975;

(3) Tombs Creek Quadrangle, CA—Sonoma Co. 1978; and

(4) Big Foot Mountain Quadrangle, CA 1991.

(c) Boundary. The Rockpile viticultural area is located in northwestern Sonoma County, California. The boundary encircles the Rockpile Ranch area, located west of Lake Sonoma. The point of beginning is the intersection of Rockpile Road and the Section 15 east boundary line, T 10 N, R 11 W (Warm Springs Dam Quadrangle);

(1) Then proceed straight north to the 800-foot contour line, Section 10, T 10 N, R 11 W (Warm Springs Dam Quadrangle);

(2) Then proceed west along the 800-foot contour line through Sections 10, 9, 4, 5, and 32 to the Section 31 east boundary line, T 11 N, R 11 W (Warm Springs Dam and Cloverdale Quadrangles);

(3) Then proceed west along the 800-foot contour line in Section 31, following the line as it reverses from the west to the east direction, returning to the east boundary of Section 31, T 11 N, R 11 W (Cloverdale and Big Foot Mountain Quadrangles);

(4) Then proceed along the 800-foot contour line east through Section 32 and northwest through Sections 33, 32, 29, 30, 25, 24, 23, 14, 15, 22, 21, and 20 to the east boundary line of Section 19, T 11 N, R 12 W (Cloverdale and Big Foot Mountain Quadrangles);

(5) Then proceed west, north, south and east along the meandering 800-foot contour line, in a loop, crossing the southwest and northwest headwaters of Galloway Creek, and returning to the east boundary line of Section 19, T 11 N, R 12 W (Big Foot Mountain Quadrangle);

(6) Then proceed straight north to the Mendocino-Sonoma county boundary line, then follow the county line straight west to the R 13 and 12 W line, and continue straight south to the 1,600-foot contour line in the Section 19 southwest corner, T 11 N, R 12 W (Big Foot Mountain Quadrangle);

(7) Then proceed southeast along the meandering 1,600-foot contour line to the Section 29 west boundary line, and continue straight south to the T 11 and 10 N boundary line, R 12 W (Big Foot Mountain Quadrangle);

(8) Then proceed east along the T 11 and 10 N boundary line to the Section 1 west boundary line, R 12 W (Big Foot Mountain Quadrangle);

(9) Then proceed south along the Section 1 west boundary line, turning east at the Section 1 south boundary and continue east to the northwest corner of Section 8, T 10 N, R 11 W (Big Foot Mountain, Tombs Creek and Warm Springs Dam Quadrangles);

(10) Then proceed south along the west boundary of Section 8, turning east at its southwest corner, and continue east to the 876-foot elevation marker, T 10 N, R 11 W (Warm Springs Dam Quadrangle);

(11) Then proceed straight south approximately 2,000 feet to the 800-foot contour line, T 10 N, R 11 W (Warm Springs Dam Quadrangle);

(12) Then follow the 800-foot contour line as it meanders west, southeast, southwest, and east to the Section 14 west boundary, and then straight north, returning to the point of beginning at Rockpile Road, T 10 N, R 11 W (Warm Springs Dam Quadrangle).

Signed: January 15, 2002.
Bradley A. Buckles,
Director.
Approved: January 31, 2002.
Timothy E. Skud,
Acting Deputy Assistant Secretary, (Regulatory, Tariff & Trade Enforcement).

[FR Doc. 02-4768 Filed 2-27-02; 8:45 am]

BILLING CODE 4810-31-P